DEPARTMENT OF COMMERCE

International Trade Administration

Mission Statement; Commercial Service Trade Mission to Colombia; March 8-13, 2009

AGENCY: Department of Commerce.

ACTION: Notice.

Mission Description

The United States Department of Commerce, International Trade Administration, U.S. and Foreign Commercial Service are organizing a Trade Mission to Bogota, Cartagena, and Barranquilla, Colombia from March 8 to March 13, 2009.

The mission will focus on helping U.S. companies launch or increase their export business in the Colombian market. The mission will help participating firms gain market information, make business and government contacts, solidify business strategies and advance specific projects, towards the goal of increasing U.S. exports to Colombia. The mission will include business-to-business matchmaking appointments with local companies, site visits and meetings with the Chambers of Commerce, including ColAmCham. The delegation will be comprised of U.S. firms representing a cross section of U.S. industries with growing potential in Colombia.

Commercial Setting

Colombia is the fifth largest market for U.S. exports in Latin America and is ranked 29th as a market for U.S. exports globally. Since the election of President Alvaro Uribe in May 2002, Colombia has become one of the most stable economies in the region. Improved security and government policies, steady growth, moderate inflation and a wide range of opportunities combined with a relatively stable political environment make it an excellent market for U.S. exporters. In recent years, Colombia has demonstrated its commitment to furthering economic growth and to increasing trade between the United States and Colombia.

The United States and Colombia signed the U.S.-Colombia Trade Promotion Agreement on November 22, 2006 and President Bush sent the implementing legislation to Congress on April 8, 2008. The Trade Promotion Agreement (TPA) will go into effect upon Congressional approval and once Colombia has taken the necessary steps to ensure implementation of its obligations. The TPA offers tremendous opportunities for exporters. When the Agreement enters into force, 80 percent of U.S. consumer and industrial exports to Colombia will be duty-free immediately. The remaining tariffs will be phased out over the next 10 years. Colombia's increasingly democratic and transparent government and the impending Trade Promotion Agreement provide a solid foundation for U.S. businesses interested in exporting to Colombia.

Industry sectors currently representing best prospects for U.S. exporters are listed below. U.S. firms in other sectors may also apply to take part in the mission.

• Oil and Gas Machinery and Services.

• Plastic Materials and Resins.

• Automotive Parts and Accessories.

• Computers and Components.

• Telecommunications Equipment and Services.

• Travel and Tourism.

• Construction and Mining Equipment.

• Air Cargo Services.

• Electrical Power Systems.

• Pollution Control Equipment.

• Safety and Security.

• Building Materials.

• Beverage Processing & Packaging Equipment.

Mission Goals

The Commercial Service Trade Mission to Colombia will help U.S. firms initiate or expand their exports to Colombia by providing business-to-business introductions and market access information.

Mission Scenario

The mission will stop in Bogota, Barranquilla and Cartagena. A special site visit Santa Marta and the Drummond Mine, Las Lomas, in Cesar is being arranged. At each stop, except for Santa Marta and Las Lomas, delegation members will participate in one-on-one business meetings with potential buyers, agents, distributors, and partners. Delegates will also attend briefings in Bogota by U.S. Embassy officials on business opportunities in Colombia and the pending U.S.-Colombia Trade Promotion Agreement. They will attend networking events with the U.S. Ambassador to Colombia in Bogota and the American Chamber of Commerce in Barranquilla. These events will offer additional opportunities to speak with local business and government representatives.

Proposed Mission Timetable

Sunday, March 8, 2009 | Mission begins in Bogota, Colombia; Welcome briefing.
Monday, March 9, 2009 | Market and Security briefing; Business matchmaking.
Tuesday, March 10, 2009 | Opportunity for follow-up and/or site visits; Networking reception.
Wednesday, March 11, 2009 | Transfer by plane to Cartagena, Colombia; Business matchmaking; Networking reception (TBC).
Thursday, March 12, 2009 | Opportunity for follow-up and/or site visits; Departure to Barranquilla, Colombia (by bus).
Friday, March 13, 2009 | Business matchmaking; Networking luncheon; Departure to Santa Marta, Colombia (by bus); Overnight at Drummond Guest House.
Saturday, March 14, 2009 | Travel to Las Lomas Mine; Briefing and tour of Las Lomas Mine; Return to Cartagena; Mission ends.

Participation Requirements

All parties interested in participating in the Commercial Service Trade Mission to Colombia must complete and submit an application package for consideration by the Department of Commerce. All applicants will be evaluated on their ability to meet certain conditions and best satisfy the selection criteria as outlined below. A minimum of 6 and maximum of 11 companies with up to two participants per company will be selected to participate in the mission from the applicant pool. U.S. companies already doing business with Colombia, as well as U.S. companies seeking to enter the Colombian market for the first time may apply.

Fees and Expenses

After a company has been selected to participate on the mission, a payment to the Department of Commerce in the form of a participation fee is required. The participation fee will be $2,500 for a small- or medium-sized enterprise (SME) * and $3,250 for large firms. The fee for the additional firm representative (large firm or SME) is $450. This entitles the company to one appointment schedule. Expenses for travel to and from Colombia, airfare between Bogota and Cartagena, lodging, incidentals and most meals will be the responsibility of each mission participant. Bus transportation from Cartagena to Barranquilla is included in the above cost. Bus transportation to Santa Marta is not included in the cost and will be at the participant's expense. Participants have the option of returning to the United States from Barranquilla or, if they participate in the mine site visit, from Cartagena.

* An SME is defined as a firm with 500 or fewer employees or that otherwise qualifies as a small business under SBA regulations (see http://www.sba.gov/services/contracting_opportunities/sizestandardstopics/index.html). Parent companies, affiliates, and subsidiaries will be considered when determining business size. The dual pricing reflects the Commercial Service's user fee schedule that became effective May 1, 2008 (for additional information see http://www.export.gov/newsletter/march2008/initiatives.html).

Conditions for Participation

• An applicant must submit a completed and signed mission application and supplemental application materials, including adequate information on the company's products and/or services, primary market objectives, and goals for participation. If the Department of Commerce receives an incomplete application, the Department may reject the application, request additional information, or take the lack of information into account when evaluating the applications.

• Each applicant must also certify that the products and services it seeks to export through the mission are either produced in the United States, or, if not, marketed under the name of a U.S. firm and have at least 51 percent U.S. content of the value of the finished product or service.

Selection Criteria: Selection will be based on the following criteria:

• Suitability of the company's products or services to the Colombian market.

• Applicant's potential for business in Colombia, including likelihood of exports resulting from the mission.

• Consistency of the applicant's goals and objectives with the stated scope of the mission.

Referrals from political organizations and any documents containing references to partisan political activities (including political contributions) will be removed from an applicant's submission and not considered during the selection process.

Timeframe for Recruitment and Applications

Mission recruitment will be conducted in an open and public manner. Outreach will include posting on the Commerce Department trade mission calendar (http://www.ita.doc.gov/doctm/tmcal.html) and other Internet Web sites, press releases to general and trade media, direct mail, broadcast fax, notices by industry trade associations and other multiplier groups, and publicity at industry meetings, symposia, conferences, and trade shows. The International Trade Administration will explore and welcome outreach assistance from other interested organizations, including other U.S. Government agencies.

The mission is open on a first come first served basis. Recruitment for the mission will begin immediately and close as soon as 10 applicants have been selected and registered, and no later than February 16, 2009. Late applications will be considered only if space and scheduling constraints permit. Applications will be available from the New Orleans U.S. Export Assistance Center. They can also be obtained by contacting the mission contact listed below.

Contacts

Brie Knox, New Orleans Export Assistance Center, U.S. Department of Commerce, Tel: 504-589-6703, E-mail: Brie.Knox@mail.doc.gov.

Sean Timmins,
Global Trade Programs, Commercial Service Trade Missions Program.

[FR Doc. E9-2489 Filed 2-5-09; 8:45 am]

BILLING CODE 3510-DS-P